NATIONAL FOUNDATION ON THE ARTS AND THE HUMANITIES

National Endowment for the Arts

Request for Comments To Assist in the Development of the National Endowment for the Arts' 2022-2026 Strategic Plan: Extension of Public Comment Period

AGENCY: National Endowment for the Arts, National Foundation on the Arts and Humanities.

ACTION: Extension of comment period.

SUMMARY: The National Endowment for the Arts (NEA) is in the process of developing a new strategic plan for the years 2022-2026. The NEA Office of Research & Analysis is soliciting public input to inform the development of the NEA 2022-2026 Strategic Plan. Through this Request for Comments, the NEA invites ideas and insights from the general public, including arts organizations, artists, arts educators, state and local arts agencies, other arts funders and policy-makers, researchers, and individuals and groups outside the arts sector. In the summer of 2021, stakeholders will have a second opportunity to provide comments and input in response to the drafted version of the NEA 2022-2026 Strategic Plan.

DATES: The due date for public comments requested in the Federal Register Notice published on March 10, 2021 (86 FR 13760) has been extended. Written comments must be submitted to the office listed in the address section below on or before the close of business on Wednesday, March 31, 2021. Comments received after that date will be considered to the extent practicable.

ADDRESSES: Send comments to Sunil Iyengar, National Endowment for the Arts, via email (NEAstrategicplanninggroup@arts.gov).

SUPPLEMENTARY INFORMATION:

A. About the National Endowment for the Arts

Established by Congress in 1965, the National Endowment for the Arts is an independent federal agency, providing funding and support to give Americans the opportunity to participate in the arts, exercise their imaginations, and develop their creative capacities. Currently, the NEA supports arts organizations and artists in every Congressional district in the country.

B. Supplemental Information

On March 10, 2021 the National Endowment for the Arts posted a Request for Comments, seeking public input to guide the development of the agency's 2022-2026 Strategic Plan (86 FR 13760). The public comment period was originally scheduled to close on Friday, March 26, 2021. The National Endowment for the Arts is extending the public comment period until Wednesday, March 31, 2021 to allow members of the public more time to submit their input and comments.

As a federal agency, the National Endowment for the Arts is required to establish a new strategic plan every four years. The Strategic Plan sets key priorities for the agency and presents management-focused objectives and strategies. The NEA's most recent strategic plan covers the years 2018-2022, and can be found online here: https://www.arts.gov/sites/default/files/NEA-FY2018-2022-StrategicPlan-2.16.18.pdf.

The NEA is seeking public input and comments from a broad array of stakeholders (see SUMMARY) to guide the development of the agency's 2022-2026 Strategic Plan. A call for comments has been posted to the agency's website: https://www.arts.gov/strategic-plan-input. In particular, the NEA welcomes input on the development of its Strategic Framework, which includes the following elements: Mission, Vision, Strategic Goals, and Strategic Objectives.

The NEA is particularly interested in how these elements should be viewed in light of new and emerging challenges and opportunities, among other contextual factors.

Examples of these factors include, but are not limited to:

• The post-pandemic recovery of the arts sector;

• Changes in work-and-leisure patterns;

• The rise of virtual engagement in the arts;

• Growing integration of the arts with other sectors (e.g., health, science, education, technology, community development); and

• Greater public attention to issues of diversity, equity, inclusion, accessibility, and social justice.

Authority: 5 U.S.C. 306.

Dated: March 17, 2021.
Meghan Jugder,
Support Services Specialist, Office of Administrative Services & Contracts, National Endowment for the Arts.

[FR Doc. 2021-05908 Filed 3-22-21; 8:45 am]

BILLING CODE 7537-01-P